DEPARTMENT OF TRANSPORTATION

Federal Railroad Administration

[Docket Number FRA-2019-0078]

Petition for Waiver of Compliance

Under part 211 of title 49 Code of Federal Regulations (CFR), this document provides the public notice that on September 9, 2019, the New York & Lake Erie Railroad (NYLE) petitioned the Federal Railroad Administration (FRA) to renew and extend previous waivers of compliance from certain provisions of the Federal railroad safety regulations contained at 49 CFR part 223. Specifically, NYLE seeks relief from the glazing requirements in 49 CFR 223.11, Requirements for existing locomotives, for four locomotives (NYLE 85, NYLE 308, NYLE 6758, and NYLE 6764). These locomotives were formerly covered under Docket Numbers FRA-2000-8267, FRA-2004-19950, and FRA-2013-0104. FRA has assigned this petition Docket Number FRA-2019-0078.

NYLE states that installing FRA-required glazing remains cost-prohibitive due to the increased cost of materials and labor. NYLE explains that the locomotives are used in rural areas at low speeds. NYLE further states that the units are used for both freight and passenger service in Titusville, PA, and occasionally used for freight and passenger service in Gowanda, NY.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by November 22, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2019-21939 Filed 10-7-19; 8:45 am]

BILLING CODE 4910-06-P